DEPARTMENT OF AGRICULTURE

Submission for OMB Review; Comment Request

July 24, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by August 29, 2013 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: National Animal Health Monitoring System; Dairy 2014 Study.

OMB Control Number: 0579-0205.

Summary Of Collection: Collection and dissemination of animal health data and information is mandated by 7 U.S.C. 391, the Animal Industry Act of 1884, which established the precursor of the Animal and Plant Health Inspection Service (APHIS), Veterinary Services, the Bureau of Animal Industry. The collection, analysis and dissemination of livestock and poultry health information on a national basis are consistent with the APHIS mission of protecting and improving American agriculture's productivity and competitiveness. In connection with this mission, the National Animal Health Monitoring System's (NAHMS) program includes periodic national commodity studies to investigate current issues and examine general health and management practices used on farms. NAHMS will initiate the fifth national data collection for dairy through Dairy 2014. The Dairy 2014 study is a part of an ongoing series of NAHMS studies on the U.S. dairy population.

Need and Use of the Information: The purpose of this fifth dairy study is to collect information, through two on-farm questionnaires and biological sampling to: (1) Describe trends in dairy cattle health and management practices; (2) describe management practices and production measures related to animal welfare; (3) estimate the herd level prevalence of lameness and identify housing and management factors associated with lameness; (4) evaluate dairy calf health from birth to weaning; (5) describe antibiotic use and residue prevention methods used to ensure milk and meal quality; and (6) estimate the prevalence and antimicrobial resistance pattern of foodborne pathogens.

Without this type of national data, the U.S.'s ability to detect trends in management, production, and health status, either directly or indirectly, would be reduced or nonexistent.

Description of Respondents: Business or other for-profit.

Number of Respondents: 3,500.

Frequency of Responses: Reporting; Annually.

Total Burden Hours: 7,439.

Ruth Brown,
Departmental Information Collection Clearance Officer.

[FR Doc. 2013-18215 Filed 7-29-13; 8:45 am]

BILLING CODE 3410-34-P